DEPARTMENT OF COMMERCE

International Trade Administration

[A-570-943]

Oil Country Tubular Goods From the People's Republic of China: Rescission of Antidumping Duty Administrative Review; 2023-2024

AGENCY: Enforcement and Compliance, International Trade Administration, Department of Commerce.

SUMMARY: The U.S. Department of Commerce (Commerce) is rescinding the administrative review of the antidumping duty (AD) order on oil country tubular goods (OCTG) from the People's Republic of China (China) for the period of review (POR) May 1, 2023, through April 30, 2024, because, as explained below, there are no suspended entries for the two companies subject to this review.

DATES: Applicable January 31, 2025.

FOR FURTHER INFORMATION CONTACT: John Drury, AD/CVD Operations, Office VI, Enforcement and Compliance, International Trade Administration, U.S. Department of Commerce, 1401 Constitution Avenue NW, Washington, DC 20230; telephone: (202) 482-0195.

SUPPLEMENTARY INFORMATION:

Background

On June 3, 2024, Commerce published in the Federal Register a notice of opportunity to request an administrative review of the AD order on OCTG from China.¹ Commerce received a timely request for review of the Order from a U.S. importer of subject merchandise, Copley International Group Co. Limited and Lixin Energy Group (HK) Co., Ltd. (CI/LE), requesting a review of Petroleum Equipment (Thailand) Co., Ltd.; and Thai Oil Pipe Co., Ltd.² We received no other requests of review.

¹ See Antidumping or Countervailing Duty Order, Finding, or Suspended Investigation; Opportunity to Request Administrative Review and Joint Annual Inquiry Service List, 89 FR 35778, 35780 (May 2, 2024); see also Certain Oil Country Tubular Goods from the People's Republic of China: Amended Final Determination of Sales at Less Than Fair Value and Antidumping Duty Order, 75 FR 28551 (May 21, 2010) (Order).

² See CI/LE's Letter, “Request for Administrative Review of Antidumping Duty Order and Request for Deferral,” dated May 31, 2024.

On July 5, 2024, Commerce initiated an administrative review of the antidumping duty order on oil country tubular goods from China, covering the period from May 1, 2023, through April 30, 2024, in accordance with section 751(a) of the Tariff Act of 1930, as amended (the Act), and 19 CFR 351.221(c)(1)(i).³ This review covers subject merchandise exported and/or produced by the following two companies: (1) Petroleum Equipment (Thailand) Co., Ltd.; and (2) Thai Oil Pipe Co., Ltd.⁴ On May 10, 2024, we placed on the record U.S. Customs and Border Protection (CBP) data for entries of OCTG from China during the POR, showing no reviewable POR entries for any company listed in the Initiation Notice.⁵ We invited interested parties to comment, and received no comments.

³ See Initiation of Antidumping and Countervailing Duty Administrative Reviews, 89 FR 55567 (July 5, 2024).

⁴ Id., 89 FR at 55574.

⁵ See Memorandum, “Release of U.S. Customs and Border Protection Import Data,” dated July 10, 2024.

On August 23, 2024, Commerce notified all interested parties of its intent to rescind the instant review because there were no suspended entries of subject merchandise by any of the companies subject to this review during the POR, and we invited interested partes to comment.⁶ We did not receive any comments.

⁶ See Memorandum, “Notice of Intent to Rescind Review,” dated August 23, 2024.

Rescission of Review

Pursuant to 19 CFR 351.213(d)(3), it is Commerce's practice to rescind an administrative review of an AD order when there are no entries of subject merchandise during the POR for which liquidation is suspended.⁷ Normally, upon completion of an administrative review, the suspended entries are liquidated at the AD assessment rate calculated for the review period.⁸ Therefore, for an administrative review to be conducted, there must be a suspended entry that Commerce can instruct CBP to liquidate at the AD assessment rate calculated for the review period.⁹ As noted above, there were no suspended entries of subject merchandise for the companies subject to this review during the POR. Accordingly, in the absence of suspended entries of subject merchandise during the POR, we are hereby rescinding this administrative review, in its entirety, in accordance with 19 CFR 351.213(d)(3).

⁷ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

⁸ See 19 CFR 351.212(b)(1).

⁹ See 19 CFR 351.213(d)(3).

Cash Deposit Requirements

As Commerce has proceeded to a final rescission of this administrative review, no cash deposit rates will change. Accordingly, the current cash deposit requirements shall remain in effect until further notice.

Assessment

Commerce will instruct CBP to assess antidumping duties on all appropriate entries of OCTG from China. AD duties shall be assessed at rates equal to the cash deposit rate of estimated AD duties required at the time of entry, or withdrawal from warehouse, for consumption, in accordance with 19 CFR 351.212(c)(1)(i). Commerce intends to issue appropriate assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

We are issuing and publishing this notice in accordance with sections 751(a)(1) and 777(i)(1) of the Act, and 19 CFR 351.213(d)(4).

Dated: January 24, 2025.
Scot Fullerton,
Acting Deputy Assistant Secretary for Antidumping and Countervailing Duty Operations.

[FR Doc. 2025-01996 Filed 1-30-25; 8:45 am]

BILLING CODE 3510-DS-P